NUCLEAR REGULATORY COMMISSION

[NRC-2012-0180]

Proposed Revision 0 to Standard Review Plan Section 19.5: Adequacy of Design Features and Functional Capabilities Identified and Described for Withstanding Aircraft Impacts

AGENCY: Nuclear Regulatory Commission.

ACTION: Solicitation of public comment.

SUMMARY: The U.S. Nuclear Regulatory Commission (NRC) is soliciting public comment on a proposed revision to its Standard Review Plan (SRP), NUREG-0800, “Standard Review Plan for the Review of Safety Analysis Reports for Nuclear Power Plants: LWR Edition.” The NRC seeks comments on a new section of the SRP: Section 19.5: “Adequacy of Design Features and Functional Capabilities Identified and Described for Withstanding Aircraft Impacts,” (Agencywide Documents Access and Management System (ADAMS) Accession No. ML12138A468), under Title 10 of the Code of Federal Regulations (10 CFR) part 52. The current SRP does not contain guidance on Aircraft Impact Assessment.

DATES: Comments must be filed no later than 30 days from the date of publication of this notice in the Federal Register. Comments received after this date will be considered, if it is practical to do so, but the Commission is able to ensure consideration only for comments received on or before this date.

ADDRESSES: You may access information and comment submissions related to this document, which the NRC possesses and is publicly available, by searching on http://www.regulations.gov under Docket ID NRC-2012-0180. You may submit comments by any of the following methods:

• Federal rulemaking Web site: Go to http://www.regulations.gov and search for Docket ID NRC-2012-0180. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Amy E. Cubbage, Chief, Policy Branch, Division of Advanced Reactors and Rulemaking, Office of New Reactors, U.S. Nuclear Regulatory Commission, Washington, DC 20555-0001; telephone at 301-415-2875 or email at amy.cubbage@nrc.gov.

SUPPLEMENTARY INFORMATION: The NRC seeks public comment on a proposed new section of the Section 19.5: “Adequacy of Design Features and Functional Capabilities Identified and Described for Withstanding Aircraft Impacts,” (Agencywide Documents Access and Management System (ADAMS) Accession No. ML12138A468). This section has been developed to assist NRC staff with the review of applications for certain construction permits, operating licenses, design approvals, design certifications, manufacturing licenses, license amendments, and combined licenses and to inform new reactor applicants and other affected entities of proposed SRP guidance. Following NRC staff evaluation of public comments, the NRC intends to incorporate the final approved guidance into the next revision of NUREG-0800.

The SRP is guidance for the NRC staff. The SRP is not a substitute for the NRC's regulations, and compliance with the SRP is not required. Accordingly, issuance of the SRP does not constitute “backfitting” as defined in 10 CFR 50.109(a)(1) of the Backfit Rule and is not otherwise inconsistent with the applicable issue finality provisions in 10 CFR part 52.

Accessing Information and Submitting Comments

A. Accessing Information

Please refer to Docket ID NRC-2012-0180 when contacting the NRC about the availability of information regarding this document. You may access information related to this document, which the NRC possesses and is publicly available, by any of the following methods:

• Federal Rulemaking Web Site: Go to http://www.regulations.gov and search for Docket ID NRC-2012-0180.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2012-0180 in the subject line of your comment submission, in order to ensure that the NRC is able to make your comment submission available to the public in this docket.

The NRC cautions you not to include identifying or contact information in comment submissions that you do not want to be publicly disclosed. The NRC posts all comment submissions at http://www.regulations.gov as well as enters the comment submissions into ADAMS. The NRC does not routinely edit comment submissions to remove identifying or contact information.

If you are requesting or aggregating comments from other persons for submission to the NRC, then you should inform those persons not to include identifying or contact information in their comment submissions that they do not want to be publicly disclosed. Your request should state that the NRC does not routinely edit comment submissions to remove such information before making the comment submissions available to the public or entering the comment submissions into ADAMS.

For the Nuclear Regulatory Commission.
Dated at Rockville, Maryland, this 25th day of July 2012.
Amy E. Cubbage,
Chief, Policy Branch, Division of Advanced Reactors and Rulemaking, Office of New Reactors.

[FR Doc. 2012-18864 Filed 8-1-12; 8:45 am]

BILLING CODE 7590-01-P